DEPARTMENT OF ENERGY

Federal Energy Regulatory Commission

[Docket No. OR14-28-000]

CITGO Petroleum Corporation v. Enterprise TE Products Pipeline Company LLC; Notice of Complaint

Take notice that on April 11, 2014, pursuant to Rule 206 of the Federal Energy Regulatory Commission's (Commission) Rules of Practice and Procedures, 18 CFR 385.206 (2013); sections 343.1 and 343.2 of the Rules Applicable to Oil Pipeline Proceedings, 18 CFR 343.1 and 343.2 (2013); and sections 1(4), 1(6), 8, 13(1), 15(1), and 16(1) of the Interstate Commerce Act (ICA), 49 U.S.C. 1(4), 1(6), 8, 13(1), 15(1), and 16(1), CITGO Petroleum Corporation (CITGO or Complainant) filed a complaint against Enterprise TE Products Pipeline Company LLC (Enterprise TEPPCP or Respondent), challenging the lawfulness of Enterprise TEPPCP's FERC Tariff No. 55.28.0, which cancels interstate transportation service for Ultra-Low Sulphur Diesel (USLD) fuel. CITGO alleges that Enterprise TEPPCO's cancellation of interstate transportation of USLD violates the ICA and the Order issued by the Commission on May 31, 2013.¹

¹ Enterprise TE Products Pipeline Company, LLC, 143 FERC ¶ 61,197 (2013).

The Complainant certifies that copies of the complaint were served on the contacts for the Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 1, 2014.

Dated: April 11, 2014.
Kimberly D. Bose,
Secretary.

[FR Doc. 2014-08755 Filed 4-16-14; 8:45 am]

BILLING CODE 6717-01-P